DEPARTMENT OF TRANSPORTATION

Office of the Secretary

Relocation of DOT's Docket Operations Office

AGENCY: Office of the Secretary (OST), Department of Transportation (Department or DOT).

ACTION: Notice.

SUMMARY: This notice announces the relocation of the U.S. Department of Transportation (DOT) Docket Operations Office, which serves as DOT's central dockets management facility and the official Reading Room (per 49 CFR part 7, subpart B and 5 U.S.C. 552(a)(2)). The Dockets Operations Office is relocating to 1200 New Jersey Avenue SE, Suite W58-213, Washington, DC 20590. Hours of operation will continue to be 9 a.m. to 5 p.m., Monday through Friday, excluding legal holidays. The Docket Operations telephone number will continue to be (202) 366-9826, (202) 366-9317, TTY: (202) 366-5273.

FOR FURTHER INFORMATION CONTACT: Cheryl Collins, Program Manager, Docket Operations, Office of Facilities, Information, and Asset Management, Office of the Assistant Secretary for Administration, Office of the Secretary, 1200 New Jersey Avenue SE, Suite W58-213, Washington, DC 20590. Avenue SE, after that; telephone number: 202-493-0402; email address: cheryl.collins@dot.gov.

SUPPLEMENTARY INFORMATION:

A. What about courier deliveries?

Docket Operations staff will continue to accept deliveries at 1200 New Jersey Avenue SE, Suite W12-140, Washington, DC 20590, until 5 p.m., Thursday, January 1, 2026. Beginning at 9 a.m. on Friday, January 2, 2026, Docket Operations staff will be available to accept deliveries at the new DOT Dockets Operations Office, 1200 New Jersey Avenue SE, Suite W58-213, Washington, DC 20590.

B. Does this notice apply to all DOT operating administrations and to the Office of Secretary (OST)?

Yes. It applies to the Federal Aviation Administration (FAA), the National Highway Traffic Safety Administration (NHTSA), the Federal Highway Administration (FHWA), the Federal Railroad Administration (FRA), the Federal Motor Carrier Safety Administration (FMCSA), the Federal Transit Administration (FTA), the Maritime Administration (MARAD), the Pipeline and Hazardous Materials Safety Administration (PHMSA), the Great Lakes St. Lawrence Seaway Development Corporation (GLS), and the Office of the Secretary (OST). The Transportation Security Administration (TSA) also uses Dockets Operations services.

Issued in Washington, DC.
Donald Jeffrey Baxter,
Acting Associate Director, DOT Headquarter Services.

[FR Doc. 2026-00892 Filed 1-16-26; 8:45 am]

BILLING CODE 4910-9X-P